DEPARTMENT OF COMMERCE

National Oceanic and Atmospheric Administration

Policy and Procedures Documents for the State Plane Coordinate System of 2022

AGENCY: National Geodetic Survey (NGS), National Ocean Service (NOS), National Oceanic and Atmospheric Administration (NOAA), Department of Commerce.

ACTION: Notice of proposed change to the State Plane Coordinate System; request for comments.

SUMMARY: NOAA's National Geodetic Survey (NGS) will establish the State Plane Coordinate System of 2022 (SPCS2022) as part of the transition to the 2022 Terrestrial Reference Frames (TRFs). SPCS2022 is the successor to previous versions referenced to the North American Datums of 1983 and 1927. Like its predecessors, SPCS2022 will be a system of conformal map projections for the entire National Spatial Reference System (NSRS). It will provide surveyors, engineers, and other geospatial professionals with a practical means for accessing and using the NSRS. NGS has developed draft policy and procedures that propose defining characteristics and requirements for SPCS2022. These documents also provide mechanisms for user input on initial design of SPCS2022 and subsequent changes. The aim is for SPCS2022 to meet the needs of NGS customers for the future NSRS. To achieve that goal, NGS is inviting written comments on the draft SPCS2022 policy.

In addition, NGS seeks feedback on purposed “special purpose” zones.

DATES: Comments will be accepted until Friday, August 31, 2018.

ADDRESSES: Comments should be submitted in writing to NGS Feedback, NOAA/NOS/National Geodetic Survey, 1315 East-West Hwy, Rm. 9340 N/NGS1, Silver Spring, MD 20910; or via Email to: NGS.Feedback@noaa.gov.

FOR FURTHER INFORMATION CONTACT: Michael Dennis, SPCS2022 Project Manager, NOAA/NOS/National Geodetic Survey, 1315 East-West Hwy, Rm. 9340 N/NGS1, Silver Spring, MD 20910; or Email: Michael.Dennis@noaa.gov.

SUPPLEMENTARY INFORMATION: The SPCS was originally established in the 1930s. Since that time it has evolved, and there has been substantial variability in how it was defined, maintained, and used. The history and current status of SPCS is discussed in NOAA Special Publication NOS NGS 13 (https://geodesy.noaa.gov/library/pdfs/NOAA_SP_NOS_NGS_0013_v01_2018-03-06.pdf). This publication may prove a useful companion in reviewing the draft SPCS2022 policy and procedures by providing context and insight into the development of SPCS and the existing NGS policies pertaining to it. Further information is available on the NGS State Plane Coordinate System web page: https://geodesy.noaa.gov/SPCS/index.shtml.

Pursuant to the authority provided in the Coast and Geodetic Survey Act, 33 U.S.C. 883a et seq., the Director of NOAA's National Geodetic Survey invites interested parties to submit comments to assist NGS in developing a new State Plane Coordinate System for the future. Comments may address any aspect of the draft SPCS2022 policy and procedures. The draft SPCS2022 policy is available at: https://geodesy.noaa.gov/INFO/Policy/files/DRAFT_SPCS2022_Policy.pdf. The associated draft procedures are available at: https://geodesy.noaa.gov/INFO/Policy/files/DRAFT_SPCS2022_Procedures.pdf. Specifically, the Director seeks comments regarding:

1. Usage of current SPCS in your organization, how your organization expects to use SPCS2022, and whether it will facilitate migration to the 2022 TRFs.

2. Whether the proposed default SPCS2022 definitions will impose a hardship or be beneficial to your organization.

3. Whether there is insufficient or excessive flexibility in the characteristics of SPCS2022 that can be established through user input.

4. Whether the deadlines are acceptable and realistic for making requests or proposing characteristics for SPCS2022.

5. Whether including “special purpose” zones as part of SPCS2022 would be beneficial, problematic, or irrelevant to your organization.

NGS notes that the draft SPCS2022 policy and procedures do not currently include a “special purpose” zone option, in part, because it would create areas where zones partially overlap other zones. Special purpose zones would, however, provide contiguous coverage for regions that are not adequately covered by SPCS2022, primarily those that fall within two or more SPCS2022 zones. These zones would be for major urbanized areas, large American Indian reservations, or federal applications covering large geographic areas. Examples for each category are:

• Major urbanized areas: New York City, Chicago, Los Angeles, St. Louis, Cincinnati, Kansas City, Denver, Portland, and many others cross zone (and often state) boundaries.

• Large American Indian reservations: The Navajo Nation is about the same area as West Virginia and falls within five existing SPCS zones (and three states).

• Regional federal applications: The Atlantic coast from the Florida-Georgia border to the Maine-Canada border is a region that spans 14 existing SPCS zones but could be covered by a single zone.

Although these types of zones were included as a possibility in the 1977 policy, none were created as part of the SPCS.¹ NGS seeks to determine whether it is appropriate to include special purpose zones as part of SPCS2022, or support special purpose zones in some other manner, if at all.

¹ These zones were considered in 1977 for “[u]rbanization that requires either different parameters for existing zones or additional zones such that a metropolitan area would be located in a single zone,” as documented in the “Policy on Publication of Plane Coordinates,” located in Vol. 42, No. 57, pages 15943-15944 of the Federal Register, dated Thursday, March 24, 1977 (https://www.gpo.gov/fdsys/pkg/FR-1977-03-24/pdf/FR-1977-03-24.pdf).

Dated: March 23, 2018.
Juliana P. Blackwell,
Director, Office of National Geodetic Survey, National Ocean Service, National Oceanic and Atmospheric Administration.

[FR Doc. 2018-08141 Filed 4-17-18; 8:45 am]

BILLING CODE 3510-JE-P